DEPARTMENT OF COMMERCE

National Oceanic and Atmospheric Administration (NOAA)

National Sea Grant Advisory Board (NSGAB); Public Meeting of the National Sea Grant Advisory Board

AGENCY: Office of Oceanic and Atmospheric Research (OAR), National Oceanic and Atmospheric Administration (NOAA), Department of Commerce (DOC).

ACTION: Notice of public meeting.

SUMMARY: This notice sets forth the schedule and proposed agenda of a forthcoming meeting of the NSGAB. NSGAB members will discuss and provide advice on the National Sea Grant College Program (Sea Grant), specifically to review and approve the 2018 Biennial Report to Congress, and any other matters as described in the agenda found on the Sea Grant website at http://seagrant.noaa.gov/WhoWeAre/Leadership/NationalSeaGrantAdvisoryBoard/UpcomingAdvisoryBoardMeetings.aspx.

DATES: The announced meeting is scheduled for Monday, May 14, 2018, from 3:00 p.m. to 4:30 p.m. ET.

ADDRESSES: The meeting will be held via conference call and webinar. Public access is available at 1315 East-West Highway, Bldg.3, Room #01303, Silver Spring, MD 20910. In order to attend in person or via conference call/webinar, please R.S.V.P to Donna Brown (contact information below) by Friday, May 4, 2018.

FOR FURTHER INFORMATION CONTACT: For any questions concerning the meeting, please contact Ms. Donna Brown, National Sea Grant College Program, National Oceanic and Atmospheric Administration, 1315 East-West Highway, Room 11717, Silver Spring, Maryland, 20910, 301-734-1088 or Donna.Brown@noaa.gov.

SUPPLEMENTARY INFORMATION:

Status: The meeting will be open to public participation with a 10-minute public comment period on Monday, May 14, 2018 at 4:10 p.m. ET. (check agenda using link in the Summary section to confirm time.)

The NSGAB expects that public statements presented at its meetings will not be repetitive of previously submitted verbal or written statements. In general, each individual or group making a verbal presentation will be limited to a total time of three (3) minutes. Written comments should be received by Ms. Donna Brown by Monday, May 7, 2018 to provide sufficient time for NSGAB review. Written comments received after the deadline will be distributed to the NSGAB, but may not be reviewed prior to the meeting date. Seats will be available on a first-come, first-serve basis.

Special Accommodations: These meetings are physically accessible to people with disabilities. Requests for sign language interpretation or other auxiliary aids should be directed to Ms. Donna Brown by Friday, May 4, 2018. The NSGAB, which consists of a balanced representation from academia, industry, state government and citizens groups, was established in 1976 by Section 209 of the Sea Grant Improvement Act (Pub. L. 94-461, 33 U.S.C. 1128). The NSGAB advises the Secretary of Commerce and the Director of Sea Grant with respect to operations under the Act, and such other matters as the Secretary refers to them for review and advice.

Dated: April 19, 2018.
David Holst,
Chief Financial Officer/Administrative Officer, Office of Oceanic and Atmospheric Research, National Oceanic and Atmospheric Administration.

[FR Doc. 2018-08931 Filed 4-26-18; 8:45 am]

BILLING CODE 3510-KA-P